SMALL BUSINESS ADMINISTRATION

Revision of Privacy Act System of Records

AGENCY: Small Business Administration.

ACTION: Notice of revision of agency's Privacy Act System of Records.

SUMMARY: SBA is revising its Privacy Act Systems of Records, SBA 20, DISASTER LOAN CASE FILES. SBA is amending this system to account for modernization of its disaster loan making and record keeping processes. Two new routine uses have been added to address sharing of data with the Department of the Treasury to provide for loan disbursements, and with the Internal Revenue Service to request and obtain income verification. Two routine uses were revised to delete references to HUD, and another to reflect the new name for GAO. Loan Servicing Centers were added as System Locations, as was the Office of Disaster Assistance DCMS Operations Center, while references to HUD offices were deleted. Descriptions of Categories of Individuals Covered by the System, Categories of Records in the System were updated to encompass the inclusion of disaster business loan data and pre-application registrants for all disaster loan programs. Under Policies and Practices for Storing, Retrieving, Accessing, Retaining and Disposing of Records, revisions reflect the ability to retrieve records by Employer Identification Number, an updated reference to electronic data under safeguards, a corrected reference to retention and disposal procedures, addition of the Director of DCMS Operations Center as a System Manager, and additions to source categories to include IRS, FEMA and credit reporting agencies.

DATES: Written comments on the Addition to the Agency's System of Records must be received on or before January 24, 2005. The notice shall be effective as proposed with or without further publication 15 days after the end of the comment period, unless comments are received which would require contrary determination and the Agency publishes another Notice before the effective date.

ADDRESSES: Written comments on the System of Records should be directed to Michael V. Sorrento, Director, DCMS Operations Center, Office of Disaster Assistance, 1175 Herndon Parkway, Herndon, VA 20170.

FOR FURTHER INFORMATION CONTACT: Michael V. Sorrento, Director, DCMS Operations Center, (703) 487-3642.

SUPPLEMENTARY INFORMATION: This publication is in accordance with the Privacy Act stipulation that Agencies publish their Systems of Records in the Federal Register when there is a revision, change or addition. SBA is amending the Notice of System of Records for SBA 20, Disaster Loan Case File, previously published at 69 FR 58597 (2004). System SBA 20, Disaster Loan Case File, is being amended to reflect changes brought on by automation of the disaster loan making process, including the use of an electronic case file, centralized data storage, and electronic interface with internal and external systems necessary to process, approve and disburse disaster home and business loans. Routine uses for interface with U.S. Department of the Treasury and the Federal Emergency Management Agency have been added. SBA is amending a routine use to update the new name of GAO to Government Accountability Office. SBA is also adding Loan Servicing Centers as system locations while deleting references to HUD here and elsewhere. The Director of DCMS Operations Center is added as a System Manager. SBA is amending the categories of individuals and records covered by the system to include disaster business loans and pre-application registrants for disaster assistance, which also caused amendments to text for form and grammar.

Altered Systems of Records

Narrative Statement; U.S. Small Business Administration Privacy Act System of Records SBA 20, Disaster Loan Case File; Amendment to System of Records

A. Narrative Statement

1. The amendment of System of Records SBA 20 is required by the implementation of the Disaster Credit Management System (DCMS), a new electronic database and software system for the electronic processing and storage of Disaster home and business loan applications. The DCMS is not a new system of records, as it is substantially similar in scope and purpose to the paper case files now encompassed under System SBA 20. Amendment is appropriate to fully reflect the scope and use of records, and the categories of individuals covered by the system. Due to the long maturity of SBA Disaster loans, paper case files will remain as a format for these records for the foreseeable future.

2. Refer to the following citations: Pub. L. 85-536, 15 U.S.C. 634(b)(6) et seq. (Small Business Act, all provisions relating to disaster loan programs); 44 U.S.C. 3101 (Records Management by Federal Agencies).

3. The effect on the individual is minimal because the information collected is already being collected by the SBA under previously approved manual form and by the SBA's previously established and published Privacy Act System of Records SBA 20, Disaster Loan Case Files. The information covered in this system of records, as amended, will be viewed only by Agency personnel and participating contractors in the line of their official duties. All of these individuals must comply with the requirements of the PA of 1974, as amended, pursuant to 5 U.S.C. 552a(m).

4. Access and use of Disaster Loan Case File records is limited to Agency officials acting in their official capacities, with a need-to-know, and to participating contractors. Access and use of electronic data will be via secure Internet, with restricted password(s)/ passcode(s).

5. The proposed new routine uses for the new System of Records satisfy the compatibility requirement of subsection (a) (7) of the Act as follows:

The proposed new routine uses allow disclosure of disaster loan making records to the U.S. Department of Treasury for the issuance of loan funds, and to the Federal Emergency Management Agency, Department of Homeland Security, to coordinate disaster assistance programs and monitor for duplication. SBA needs to share relevant information with other federal, state and local agencies involved in the delivery of disaster assistance to comply with laws and promote the effective delivery of disaster assistance. The information in this System of Records is collected by SBA for the purpose of its decision making and servicing of disaster loans, and to document and ensure compliance with applicable laws and regulations.

6. OMB approved SBA 3245-0017—Disaster Business Loan Application (SBA Form 5, SBA Form 739A, SBA Form 1368, SBA Form 2202) expires 07/31/2007; OMB approved SBA 3245-0018—Disaster Home Loan Application (SBA Form 5C, SBA Form 739) expires 09/30/2006; OMB approved SBA 3245-0084—Home/Business Loan Inquiry Record (SBA Form 700) expires 09/30/2006; OMB approved SBA 3245-0326—Pre-Disaster Mitigation Application (SBA Form 5M) expires 09/30/2006; OMB approved SBA 3245-0136—Disaster Survey Worksheet (SBA Form 987) expires 03/31/2007; OMB approved SBA 3245-0188—Personal Financial Statement (SBA Form 413) on 11/30/2004; OMB approval 3245-0178—Statement of Personal History (SBA Form 912) expires 09/30/2006.

SBA 20

System Name:

Disaster Loan Case File—SBA 20.

System Location:

Office of Disaster Assistance, DCMS Operations Center, Herndon, Virginia. Data hosting by contractor off site in secure locations per SBA Office of Chief Information Officer (“OCIO”) standards. SBA Disaster Area Offices and SBA Loan Servicing Offices. See Appendix A for SBA Disaster Area Office and Loan Servicing Office addresses.

Categories of Individuals Covered By the System Includes:

Applicants and recipients of disaster home and business loans; registrants for disaster assistance who are provided disaster home and business loan applications.

Categories of Records in the System Includes:

Information relating to pre-application registrants, disaster home and business loan applicants and recipients of disaster home and business loans from the time of pre-application registration. These records include:

Loan applications, supporting documents, personal history, financial statements, credit information investigative reports, appraisers' reports, waivers, loan record transfers, correspondence, recommendations, authorizations, disbursement amount, term and rate, payment history, collateral, UCC filings and re-filings, collection and liquidation activities, financial statements, settlements and compromises, participating bank information, field visit reports, borrowers insurance information and loan accounting information.

Authority for Maintenance of the System:

15 U.S.C. 634(b)(6), 44 U.S.C. 3101.

Routine Uses of Records Maintained in the System, Including Categories of Users and the Purposes of Such Uses, These Records May Be Used, Disclosed or Referred:

f. To provide data to the Government Accountability Office (“GAO”) for periodic reviews of SBA.

g. In response, to a request from a State or Federal agency in connection with the issuance of a grant, loan or other benefit by that agency which is relevant to their decision on the matter; this may be requested individually or as part of a computer match.

h. To other Federal agencies to conduct computer matching programs to locate delinquent SBA borrowers who are receiving Federal salaries or benefit payments and programs to identify delinquent SBA borrowers receiving federal salaries or benefit payments. Disclosure will be made if the records indicate the loan is in default, at least 30 days past due or to update a previous disclosure. SBA will make the disclosures to obtain repayments of debts under the provisions of the Debt Collection Act of 1982 by voluntary repayment, or by administrative or salary offset procedures.

p. To transmit data to U.S. Department of the Treasury to effect issuance of loan funds to borrowers.

q. To the Federal Emergency Management Agency (“FEMA”) to coordinate the issuance of federal disaster assistance to disaster victims and monitor for duplication.

r. To the public under the Freedom of Information Act (“FOIA”), 5 U.S.C. 552.

Policies and Practices for Storing, Retrieving, Accessing, Retaining and Disposing of Records:

Retrieval:

By applicant/recipient name, cross-referenced loan number or borrower's Social Security Number or Employer Identification Number.

Safeguards:

Access and use limited to persons with official need to know to know; electronic data access is protected by password and user identification codes.

Retention and Disposal:

In accordance with Standard Operating Procedure 00 41 2, Appendix 18.

System Manager(s) and Address:

Disaster Area Office Directors. See Appendix A.

Director, DCMS Operations Center, 1175 Herndon Parkway, Herndon, VA 20170.

Contesting Procedures:

Notify the officials listed above, state the reason(s) for contesting it and the proposed amendment sought.

Source Categories:

Subject, individuals, Agency employees, financial institutions, commercial credit reporting agencies, law enforcement agencies, Internal Revenue Service and Federal Emergency Management Agency.

.

Dated: December 15, 2004.
Delorice P. Ford,
Sr. Privacy Act Official.

[FR Doc. 04-28109 Filed 12-22-04; 8:45 am]

BILLING CODE 8025-01-P